FEDERAL COMMUNICATIONS COMMISSION

47 CFR Part 73

[MB Docket No. 22-39; RM-11917; DA 22-359; FR ID 81399]

Television Broadcasting Services Billings, Montana

AGENCY: Federal Communications Commission.

ACTION: Final rule.

SUMMARY: On January 26, 2022, the Media Bureau, Video Division (Bureau) issued a Notice of Proposed Rulemaking (NPRM) in response to a petition for rulemaking filed by Scripps Broadcasting Holdings LLC (Scripps or Petitioner), the licensee of KTVQ(TV) (KTVQ or Station), channel 10, Billings, Montana, requesting the substitution of channel 20 for channel 10 at Billings in the Table of Allotments. For the reasons set forth in the Report and Order referenced below, the Bureau amends the Federal Communications Commission (Commission or FCC) regulations to substitute channel 20 for channel 10 at Billings.

DATES: Effective April 11, 2022.

FOR FURTHER INFORMATION CONTACT: Joyce Bernstein, Media Bureau, at (202) 418-1647 or Joyce.Bernstein@fcc.gov.

SUPPLEMENTARY INFORMATION: The proposed rule was published at 87 FR 6473 on February 4, 2022. The Petitioner filed comments in support of the petition reaffirming its commitment to apply for channel 20. No other comments were filed. In support of its channel substitution request, the Petitioner states that the Commission has recognized that VHF channels have certain characteristics that pose challenges for their use in providing digital television service, including propagation characteristics that allow undesired signals and noise to be receivable at relatively far distances, and that the Station has received many complaints from viewers unable to receive a reliable signal on channel 10. An analysis using the Commission's TVStudy software tool indicates that KTVQ's move from channel 10 to channel 20 is predicted to create a small area with 3,624 persons. That loss area, however, is partially overlapped by the noise limited contours of Scripps' owned TV translator stations K15LB-D, Red Lodge, Montana, and K28ON-D, Castle Rock, Montana, both of which carry the CBS network programming aired by KTVQ, and it appears that due to VHF reception issues and terrain, most of the viewers in the loss area already receive their CBS service from these translators. Accordingly, taking into account service from the Scripps' translators, only 483 persons would lose CBS service if KTVQ moves to channel 20, a number which the Commission considers de minimis. In addition, the loss area is also partially overlapped by the noise limited contours of KSVI (ABC) and KULR (NBC), Billings, Montana; KHMT (FOX), Hardin, Montana; and KSGW (ABC/FOX), Sheridan, Wyoming, so viewers in the loss area will continue to have access to major network programming.

This is a synopsis of the Commission's Report and Order, MB Docket No. 22-39; RM-11917; DA 22-359, adopted April 4, 2022, and released April 4, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments, under Montana, by revising the entry for Billings to read as follows:

§ 73.622 Digital television table of allotments.

* * * * *

(j) * * *

Community | Channel No.
* * * * *
MONTANA
Billings | 11, * 16, 18, 20
* * * * *

[FR Doc. 2022-07636 Filed 4-8-22; 8:45 am]

BILLING CODE 6712-01-P